DEPARTMENT OF HEALTH AND HUMAN SERVICES

Administration on Aging

Agency Information Collection Activities; Submission for OMB Review; Comment Request; Semi-Annual and Final Reporting Requirements for the Older Americans Act Title IV Discretionary Grants Program

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by July 6, 2009.

ADDRESSES: Submit written comments on the collection of information by fax 202-395-6974 to the OMB Desk Officer for AoA, Office of Information and Regulatory Affairs, OMB.

FOR FURTHER INFORMATION CONTACT: Lori Stalbaum at (202) 357-3469, or lori.stalbaum@aoa.hhs.gov.

SUPPLEMENTARY INFORMATION: In compliance with 44 U.S.C. 3507, AoA has submitted the following proposed collection of information to OMB for review and clearance.

Describe Collection of Information

AoA is requesting a continuation of an existing collection for Semi-Annual and Final Performance Progress Reports for Older Americans Act Title IV grantees. AoA estimates the burden of this collection of information as follows: Frequency: Semi-annually with the Final report taking the place of the semi-annual report at the end of the final year of the grant. Respondents: States, public agencies, private nonprofit agencies, institutions of higher education, and organizations including tribal organizations. Estimated Number of Responses: 600. Total Estimated Burden Hours: 12,000.

Dated: May 29, 2009.
Edwin L. Walker,
Acting Assistant Secretary for Aging.

[FR Doc. E9-12986 Filed 6-3-09; 8:45 am]

BILLING CODE 4154-01-P